Proclamation 10538 of March 30, 2023

Transgender Day of Visibility, 2023

By the President of the United States of America

A Proclamation

Transgender Day of Visibility celebrates the joy, strength, and absolute courage of some of the bravest people I know—people who have too often had to put their jobs, relationships, and lives on the line just to be their true selves. Today, we show millions of transgender and nonbinary Americans that we see them, they belong, and they should be treated with dignity and respect. Their courage has given countless others strength, but no one should have to be brave just to be themselves. Every American deserves that freedom.

Transgender Americans shape our Nation's soul—proudly serving in the military, curing deadly diseases, holding elected office, running thriving businesses, fighting for justice, raising families, and much more. As kids, they deserve what every child deserves: the chance to learn in safe and supportive schools, to develop meaningful friendships, and to live openly and honestly. As adults, they deserve the same rights enjoyed by every American, including equal access to health care, housing, and jobs and the chance to age with grace as senior citizens. But today, too many transgender Americans are still denied those rights and freedoms. A wave of discriminatory State laws is targeting transgender youth, terrifying families and hurting kids who are not hurting anyone. An epidemic of violence against transgender women and girls, in particular women and girls of color, has taken lives far too soon. Last year's Club Q shooting in Colorado was another painful example of this kind of violence—a stain on the conscience of our Nation.

My Administration has fought to end these injustices from day one, working to ensure that transgender people and the entire LGBTQI+ community can live openly and safely. On my first day as President, I issued an Executive Order directing the Federal Government to root out discrimination against LGBTQI+ people and their families. We have appointed a record number of openly LGBTQI+ leaders, and I was proud to rescind the ban on openly transgender people serving in the military. We are also working to make public spaces and travel more accessible, including with more inclusive gender markers on United States passports. We are improving access to public services and entitlements like Social Security. We are cracking down on discrimination in housing and education. And last December, I signed the Respect for Marriage Act into law, ensuring that every American can marry the person they love and have that marriage accepted, period.

Meanwhile, we are also working to ease the tremendous strain that discrimination, bullying, and harassment can put on transgender children—more than half of whom seriously considered suicide in the last year. The Department of Education is, for example, helping ensure that transgender students have equal opportunities to learn and thrive at school, and the Department of Justice is pushing back against extreme laws that seek to ban evidence-based gender-affirming health care.

There is much more to do. I continue to call on the Congress to finally pass the Equality Act and extend long-overdue civil rights protections to all LGBTQI+ Americans to ensure they can live with safety and dignity. Together, we also have to keep challenging the hundreds of hateful State laws that have been introduced across the country, making sure every child knows that they are made in the image of God, that they are loved, and that we are standing up for them.

America is founded on the idea that all people are created equal and deserve to be treated equally throughout their lives. We have never fully lived up to that, but we have never walked away from it either. Today, as we celebrate transgender people, we also celebrate every American's fundamental right to be themselves, bringing us closer to realizing America's full promise.

NOW, THEREFORE, I, JOSEPH R. BIDEN JR., President of the United States of America, by virtue of the authority vested in me by the Constitution and the laws of the United States, do hereby proclaim March 31, 2023, as Transgender Day of Visibility. I call upon all Americans to join us in lifting up the lives and voices of transgender people throughout our Nation and to work toward eliminating violence and discrimination against all transgender, gender nonconforming, and nonbinary people.

IN WITNESS WHEREOF, I have hereunto set my hand this thirtieth day of March, in the year of our Lord two thousand twenty-three, and of the Independence of the United States of America the two hundred and forty-seventh.

[FR Doc. 2023-07089

Filed 4-3-23; 8:45 am]

Billing code 3395-F3-P